DEPARTMENT OF JUSTICE

National Institute of Corrections

Solicitation for a Cooperative Agreement—Dosage-Based Probation as an Effective Intervention

AGENCY: National Institute of Corrections, U.S. Department of Justice.

ACTION: Solicitation for a Cooperative Agreement.

SUMMARY: The National Institute of Corrections (NIC) Community Services Division is soliciting proposals from organizations, groups, or individuals to enter into a cooperative agreement with NIC for up to 16 months beginning in October 2012.

DATES: Application must be received by 4:00 p.m. (EDT) on Monday, August 6, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 7-3106, extension 0 for pickup.

Faxed applications will not be accepted. Electronic applications can be submitted via http://www.grants.gov.

FOR FURTHER INFORMATION CONTACT: A copy of this announcement can be downloaded from the NIC Web site at www.nicic.gov/cooperativeagreements.

All technical or programmatic questions concerning this announcement should be directed to Lori Eville, Correctional Program Specialist, National Institute of Corrections, at leville@bop.gov. In addition to the direct reply, all questions and responses will be posted on NIC's Web site at www.nicic.gov for public review (the names of those submitting questions will not be posted). The Web site will be updated regularly and postings will remain on the Web site until the closing date of this cooperative agreement solicitation. Only questions received by 12:00 p.m. (EDT) on July 30, 2012 will be posted on the NIC Web site.

SUPPLEMENTARY INFORMATION: Overview: The traditional approach of probation supervision in the United States focuses on offender accountability. Many jurisdictions deem probation “successful” by measuring the number of contacts they make with an offender, the conditions an offender completes, or the amount of time an offender serves on probation. As caseloads grow and criminal justice budgets continue to shrink, practitioners and legislators alike are looking for justice interventions that have better long-term outcomes. Only until recently has community corrections benefitted from specific research with identified methods of reducing offender recidivism. Research indicates that certain programs and intervention strategies, when applied under certain conditions, produce measureable reductions in recidivism. This same research suggests that few community supervision agencies are using these effective interventions and principles [see McGuire,(2002); Sherman et al, (1998), Aos (1998) on cost-benefit analysis and specific clinical trials (Henggeler et al, (1997); Meyers et al, (2002) on specific clinical trials)].

To bring the research to practice, NIC launched the Evidence-Based Policy and Practice Initiative, which incorporated many of these research findings. One result of the initiative was the “box set,” a collection of documents focusing on the implementation of evidence-based principles (EBP) in community corrections agencies. They are available on the NIC Web site at http://nicic.gov/EBPBoxSet.

NIC approaches risk and recidivism reduction with an integrated model that emphasizes the implementation of interventions based on proven principles associated with behavioral changes, the development of understanding and commitment to risk reduction within correctional organizations, and collaboration with other justice agencies and service providers to enhance delivery. The integrated approach for reducing offender risks has guiding principles and roles for courts, prosecutors and defense attorneys, pretrial services, and treatment providers as well as corrections. The box set provides an overview and outlines the roles of stakeholders in reducing offender risk.

Research supports several principles of effective offender interventions. NIC highlights eight of these principles in its publication “Implementing Evidence-Based Practice in Community Corrections: The Principles of Effective Interventions” http://static.nicic.gov/Library/019342.pdf. These working principles are listed below in developmental sequence: (1) Assess Actuarial Risk/Needs—Assessing offenders' risk and needs (focusing on dynamic and static risk factors and criminogenic needs) at the individual and aggregate levels is essential for implementing the principles of best practice. (2) Enhance Intrinsic Motivation—Research strongly suggests that “motivational interviewing” techniques, rather than persuasion tactics, effectively enhance motivation for initiating and maintaining behavior changes. (3) Target Interventions: a. Risk Principle—Prioritize supervision and treatment resources for higher risk offenders. b. Need Principle—Target interventions to criminogenic needs. c. Responsivity Principle—Be responsive to temperament, learning style, motivation, gender, and culture when assigning to programs. d. Dosage—Structure 40% to 70% of high-risk offenders' time for 3 to 9 months. e. Treatment Principle—Integrate treatment into full sentence/sanctions requirements. (4) Skill Train with Directed Practice—Provide evidence-based programming that emphasizes cognitive-behavior strategies and is delivered by well-trained staff. (5) Increase Positive Reinforcement—Apply four positive reinforcements for every one negative reinforcement for optimal behavior change results. (6) Engage Ongoing Support in Natural Communities—Realign and actively engage pro-social support for offenders in their communities for positive reinforcement of desired new behaviors. (7) Measure Relevant Processes/Practices—An accurate and detailed documentation of case information and staff performance, along with a formal and valid mechanism for measuring outcomes, is the foundation of evidence-based practice. (8) Provide Measurement Feedback—Providing feedback builds accountability and maintains integrity, ultimately improving outcomes.

Scope of Work: The intent of this solicitation is to expand on the foundation of work that NIC has led on offender risk reduction. “Implementing Evidence-Based Practice in Community Corrections: The Principles of Effective Interventions” outlines a framework of strategies that, when jurisdictions implement them correctly, lead to reductions in offender risk. It further suggests that these principles are in developmental order, do not operate in a vacuum, and are highly interdependent. This project will focus on the development of the third principle, Target Interventions: Dosage. It will also call for the integration of dosage into the other more established principles of risk, need, and responsivity. Dosage-based probation must be guided by the actuarial risk of the offender. After determining the offender's risk, it is then necessary to assess and target the individual criminogenic needs of the offender so that treatment, interventions, and conditions will match to the offender's identified needs. The intensity, duration, and frequency of treatment, interventions, conditions, and/or dosage should match the level of offender risk and be reassessed routinely to determine their effectiveness.

Project Deliverables: (1) The awardee will develop a monograph that will review all of the current research and publications on the use of a dosage-based probation approach and its effectiveness as an intervention within a criminal justice system. The monograph must meet all requirements for publication and inclusion in the National Institution of Corrections Information Center. (2) The awardee will develop a comprehensive strategic plan outlining the activities, processes, and objectives that an agency or jurisdiction should complete at (a) The individual case level, (b) the agency level, and (c) the system level to implement dosage-based probation as a risk reduction intervention. (3) The awardee will produce and submit a protocol for selecting jurisdictions that are best positioned to implement the dosage-based probation intervention strategic plan. (4) Participate in all planning and progress meetings during the life of the project. (5) Submit a final report reviewing the project's activities and accomplishments.

Specific Requirements: Documents or other media that are produced under this award must follow these guidelines: Prior to the preparation of the final draft of any document or other media, the awardee must consult with NIC's writer/editor concerning the acceptable formats for manuscript submissions and the technical specifications for electronic media. The awardee must follow the guidelines listed herein, as well as follow (1) the Guidelines for Preparing and Submitting Manuscripts for Publication as found in the “General Guidelines for Cooperative Agreements,” which can be found on our Web site at www.nicic.gov/cooperativeagreements and (2) NIC recommendations for producing media using plain language, which can be found at www.nicic.gov/plainlanguage. All final documents and other media submitted under this project will be posted on the NIC Web site and must meet the federal government's requirement for accessibility (e.g., 508 PDFs or HTML files). The awardee must provide descriptive text interpreting all graphics, photos, graphs, and/or multimedia that will be included with or distributed alongside the materials and must provide transcripts for all applicable audio/visual works.

Meetings: The cooperative agreement awardee will participate in an initial meeting with NIC staff for a project overview and preliminary planning within two weeks of the award. The awardee will meet with NIC staff routinely to discuss the activities noted in the timeline during the course of the cooperative agreement. Meetings will be held no less than quarterly and may be conducted via webinar or in person as agreed upon by NIC and the awardee.

Application Requirements: Applications should be concisely written, typed double-spaced and reference the project by the “NIC Opportunity Number” and Title in this announcement. The package must include: A cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/General/certif-frm.pdf).

Applications may be submitted in hard copy, or electronically via http://www.grants.gov. If submitted in hard copy, there needs to be an original and three copies of the full proposal (program and budget narratives, application forms and assurances). The original should have the applicant's signature in blue ink.

Authority: Pub. L. 93-415.

Funds Available: Up to $100,000 is available for this project, subject to available funding, but preference will be given to applicants who provide the most cost efficient solutions in accomplishing the scope of work. Determination will be made based on best value to the government, not necessarily the lowest bid. Funds may be used only for the activities that relate directly to the project.

This project will be a collaborative venture with the NIC Community Services Division.

Eligibility of Applicants: An eligible applicant is any public or private agency, educational institution, organization, individual, or team with expertise in the described areas.

Required Expertise: Successful applicants must be able to demonstrate that they have the organizational capacity to produce the deliverables of this project, including extensive experience in correctional and criminal justice policy and practice, and a strong background in offender risk reduction principles.

Review Considerations: Applications received under this announcement will be subject to the NIC Review Process. The criteria for the evaluation of each application will be as follows:

Program Narrative: (50%)

Are all of the five project tasks adequately discussed, and is there a clear statement of how each will be accomplished, including the staffing, resources, and strategies to be employed? Are there any innovative approaches, techniques, or design aspects proposed that will enhance the project?

Organizational Capabilities: (25%)

Do the skills, knowledge, and expertise of the applicant(s) and the proposed project staff demonstrate a high level of competency to complete the tasks? Does the applicant have the necessary experience and organizational capacity to meet the goals of the project?

Program Management/Administration: (25%)

Does the applicant identify reasonable objectives, milestones, and measures to track progress? If there are consultants and/or partnerships proposed, is there a clear structure to ensure effective use and coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.ccr.gov. A CCR Handbook and worksheet can also be reviewed at the Web site.

Number of Awards: One.

NIC Opportunity Number: 12CS09. This number should appear as a reference line in the cover letter, where indicated on Standard Form 424, and outside of the envelope in which the application is sent.

Catalog of Federal Domestic Assistance Number: 16.603.

Executive Order 12372: This program is subject to the provisions of Executive Order 12372.

E.O. 12372 allows states the option of setting up a system for reviewing applications from within their states for assistance under certain Federal programs. Applicants (other than Federally-recognized Indian tribal governments) should contact their State Single Point of Contact (SPOC), a list of which can be found at http://www.whitehouse.gov/omb/grants_spoc.

Morris L. Thigpen,
Director, National Institute of Corrections.

[FR Doc. 2012-17818 Filed 7-20-12; 8:45 am]

BILLING CODE 4410-36-P